DEPARTMENT OF TRANSPORTATION

Federal Highway Administration

Notice of Final Federal Agency Actions on Proposed Project in Washington

AGENCY: Federal Highway Administration (FHWA), DOT.

ACTION: Notice of limitation on claims for judicial review of actions by FHWA.

SUMMARY: This notice announces actions taken by the FHWA that are final within the meaning of 23 U.S.C. 139(l)(1). The actions relate to a proposed project, the SR 520 Pontoon Construction Project in the State of Washington. Those actions grant approval for the project.

DATES: By this notice, the FHWA is advising the public of final agency actions subject to 23 U.S.C. 139(l)(1). A claim seeking judicial review of the Federal agency actions on the project will be barred unless the claim is filed within 180 days of the date of publication of this notice. If the Federal law that authorizes judicial review of a claim provides a time period of less than 180 days for filing such claim, then that shorter time period still applies.

FOR FURTHER INFORMATION CONTACT: Randolph Everett, Major Projects Oversight Manager, Federal Highway Administration, Jackson Federal Building, 915 2nd Avenue, Room 3142, Seattle, Washington 98174; telephone: (206) 220-7538; and e-mail: randolph.everett@dot.gov. The FHWA Washington Division's Oversight Manager's regular office hours are between 8 a.m. and 4:30 p.m. (Pacific Time). You may also contact Allison Hanson, Director of Environmental Services—Mega Projects, SR 520 Bridge Replacement and HOV Program Office, 600 Stewart Street, Suite 520, Seattle, Washington 98101; telephone: 206-805-2880; and e-mail: HansonA@wsdot.wa.gov. The SR 520 Project's regular office hours are between 8 a.m. and 5 p.m. (Pacific Time).

SUPPLEMENTARY INFORMATION: Notice is hereby given that the FHWA has taken final agency actions by issuing approval for the following highway project: the SR 520 Pontoon Construction Project. The project includes constructing pontoons sufficient to replace the existing traffic capacity of the Evergreen Point Bridge, in the event of the bridge's catastrophic failure. The selected alternative includes constructing a new casting basin facility at the Aberdeen Log Yard site in Aberdeen, WA. The pontoons would be stored in case they are needed for catastrophic failure response or until they are incorporated into the proposed bridge replacement.

The actions by the FHWA on this project, and the laws under which such actions were taken, are described in the May 2010 Draft Environmental Impact Statement (EIS), the December 2010 Final EIS, the January 2011 Record of Decision (ROD), and in other documents in the FHWA administrative record for the project. The Draft EIS, the Final EIS, the ROD, and the other documents supporting the decision are available by contacting the FHWA or the Washington State Department of Transportation at the addresses provided above.

The Draft EIS, the Final EIS, and the ROD can be viewed and downloaded from the project Web site at http://www.wsdot.wa.gov/Projects/SR520/Pontoons.htm or viewed at local libraries in the project area.

This notice applies to all Federal agency decisions on the project as of the issuance date of this notice and all laws under which such actions were taken, including but not limited to:

1. General: National Environmental Policy Act [42 U.S.C. 4321-4347]; Federal-Aid Highway Act [23 U.S.C. 109].

2. Air: Clean Air Act, as amended [42 U.S.C. 7401-7671(q)].

3. Land: Section 4(f) of the Department of Transportation Act of 1966 [49 U.S.C. 303].

4. Wildlife: Endangered Species Act [16 U.S.C. 1531-1544]; Section 7 of the Endangered Species Act [16 U.S.C. 1536]; Anadromous Fish Conservation Act [16 U.S.C. 757(a)-757(g)]; Fish and Wildlife Coordination Act [16 U.S.C. 661-667(d)]; Magnuson-Stevenson Fishery Conservation and Management Act of 1976, as amended [16 U.S.C. 1801 et seq.].

5. Historic and Cultural Resources: Section 106 of the National Historic Preservation Act of 1966, as amended [16 U.S.C. 470(f) et seq.]; Archaeological and Historic Preservation Act [16 U.S.C. 469-469(c)].

6. Wetlands and Water Resources: Section 7 of the Endangered Species Act [16 U.S.C. 1536]; Clean Water Act (Section 319 [33 U.S.C. 1329]); Safe Drinking Water Act [42 U.S.C. 300(f)-300(j)(6)].

7. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: January 10, 2011.
Daniel M. Mathis,
Division Administrator, Olympia, Washington.

[FR Doc. 2011-866 Filed 1-14-11; 8:45 am]

BILLING CODE 4910-RY-P